DEPARTMENT OF JUSTICE

Notice of Lodging of Proposed Consent Decree Under the Clean Air Act, the Comprehensive Environmental Response, Compensation, and Liability Act, and the Emergency Planning and Community Right-To-Know Act

On October 28, 2020, the Department of Justice filed a complaint and lodged a proposed Consent Decree with the United States District Court for the District of Arizona (“Court”) in the matter of United States of America v. Apache Nitrogen Products, Inc., Civil Action No. 4:20-cv-00463-BGM (D. Ariz.).

The proposed Consent Decree resolves certain claims brought under Sections 112(r)(1) and 112(r)(7) of the Clean Air Act (“CAA”), 42 U.S.C. 7412(r)(1), (r)(7); Section 103 of the Comprehensive Environmental Response, Compensation, and Liability Act (“CERCLA”), 42 U.S.C. 9603; and Section 304 of the Emergency Planning and Community Right-to-Know Act (“EPCRA”), 42 U.S.C. 11004, at the chemical manufacturing facility that Apache Nitrogen Products, Inc. (“Apache Nitrogen”) owns and operates in Cochise County, Arizona. The claims alleged in the complaint and resolved in the proposed Consent Decree concern Apache Nitrogen's prevention and mitigation of accidental chemical releases. The Consent Decree requires Apache Nitrogen to perform safety improvements at its Cochise County, Arizona facility, including making improvements to Apache Nitrogen's preventive maintenance tracking system, conducting an audit of its process safety culture, and upgrading its emergency response plan to include installation of an anhydrous ammonia monitoring system and enhanced public notification. The Consent Decree also documents that the company has replaced or upgraded equipment to improve accident prevention. The Consent Decree requires Apache Nitrogen to pay a civil penalty of $1,500,000 to the United States.

The publication of this notice opens a period for public comment on the Consent Decree. Comments should be addressed to the Assistant Attorney General, Environment and Natural Resources Division, and should refer to United States of America v. Apache Nitrogen Products, Inc., D.J. Ref. No. 90-5-2-1-10736/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.usdoj.gov/enrd/consent-decrees. We will provide a paper copy of the Consent Decree upon written request and payment of reproduction costs. Please mail your request and payment to: Consent Decree Library, U.S. DOJ—ENRD, P.O. Box 7611, Washington, DC 20044-7611.

Please enclose a check or money order for $15.75 (25 cents per page reproduction cost) payable to the United States Treasury.

Lori Jonas,
Assistant Section Chief, Environmental Enforcement Section, Environment and Natural Resources Division.

[FR Doc. 2020-24482 Filed 11-3-20; 8:45 am]

BILLING CODE 4410-15-P